DEPARTMENT OF DEFENSE

Office of the Secretary

Submission for OMB Review; Comment Request

ACTION: Notice.

The Department of Defense has submitted to OMB for clearance, the following proposal for collection of information under the provisions of the Paperwork Reduction Act (14 U.S.C. Chapter 35).

DATES: Consideration will be given to all comments received by November 20, 2003.

Title, Form, and OMB Number: Trustee Report; DD Form 2826; OMB Number 01730-0012.

Type of Request: Extension.

Number of Respondents: 600.

Responses Per Respondent: 1.

Annual Responses: 600.

Average Burden Per Response: 30 minutes.

Annual Burden Hours: 300.

Needs and Uses: When members of the uniformed services are declared mentally incompetent, the need arises to have a trustee appointed to act on their behalf with regard to military pay matters. Trustees will complete this form to report the administration of the funds received on behalf of the member. The requirement to complete this form helps alleviate the opportunity for fraud, waste and abuse of government funds and member's benefits.

Affected Public: Individuals or households.

Frequency: On occasion.

Respondent's Obligation: Required to obtain or retain benefits.

OMB Desk Officer: Ms. Jacqueline Zeiher. Written comments and recommendations on the proposed information collection should be sent to Ms. Zeiher at the Office of Management and Budget, Desk Officer for DoD, Room 10236. New Executive Office Building, Washington, DC 20503.

DOD Clearance Officer: Ms Jacqueline Davis. Written requests for copies of the information collection proposal should be sent to Ms. Davis, WHS/DIOR, 1215 Jefferson Davis Highway, Suite 1204, Arlington, CA 22202-4302;.

Dated: October 8, 2003.
Patricia L. Toppings,
Alternate OSD Federal Register Liaison Officer, Department of Defense.

[FR Doc. 03-26442 Filed 10-20-03; 8:45 am]

BILLING CODE 5001-08-M